DEPARTMENT OF ENERGY

Federal Energy Regulatory Commission

[Docket No. CP02-45-000]

Texas Eastern Transmission. L.P.; Notice of Intent To Prepare an Environmental Assessment for the Proposed Hanging Rock Lateral Project and Request for Comments on Environmental Issues

January 25, 2002.

The staff of the Federal Energy Regulatory Commission (FERC or Commission) will prepare an environmental assessment (EA) that will discuss the environmental impacts of the Hanging Rock Lateral Project involving construction and operation of facilities by Texas Eastern Transmission, L.P. (Texas Eastern) in (Scioto and Lawrence Counties, Ohio).¹ These facilities would consist of about 9.6 miles of 24-inch-diameter pipeline. This EA will be used by the Commission in its decision-making process to determine whether the project is in the public convenience and necessity.

¹ Texas Eastern's application was filed with the Commission under Section 7 of the Natural Gas Act and Part 157 of the Commission's regulations.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice Texas Eastern provided to landowners. This fact sheet addresses a number of typically asked questions, including the use of eminent domain and how to participate in the Commission's proceedings. It is available for viewing on the FERC Internet website (www.ferc.gov).

Summary of the Proposed Project

Texas Eastern wants to construct a pipeline lateral to provide service to the Hanging Rock Power Plant, a 1,240 megawatt gas-fired electric power plant (Hanging Rock Plant) which will be constructed in Lawrence County, Ohio, by Duke Energy Hanging Rock, L.L.C. The pipeline facilities would allow Texas Eastern to provide a total of 250,000 dekatherms per day (dth/d) of transportation service to the Hanging Rock Plant. Texas Eastern proposes to have these facilities in service by November 1, 2002. Texas Eastern seeks authority to construct and operate:

• 9.6 miles of 24-inch-diameter pipeline extending from milepost (MP) 562.18 on Texas Eastern's 30-inch-diameter Line Nos. 10 and 15 (the Texas Eastern Interconnect) in Scioto County, Ohio, to the Hanging Rock Plant in Lawrence County, Ohio;

• 150 feet of 20-inch-diameter pipeline at the Texas Eastern Interconnect;

• 150 feet of 12-inch-diameter pipeline at MP 2.1 on the Hanging Rock Lateral to interconnect with the existing Tennessee Gas Pipeline Company (Tennessee) pipeline Scioto County, Ohio;

• 2 new metering and regulating (M&R) stations (the Tennessee Interconnect) at MP 2.1 in Scioto County, Ohio, where the Hanging Rock Lateral and the Tennessee pipeline cross;

• the Hanging Rock Plant M&R station on the Hanging Rock Plant property at MP 9.6 in Lawrence County, Ohio; and

• appurtenant facilities.

The location of the project facilities is shown in appendix 2.²

² The appendices referenced in this notice are not being printed in the Federal Register. Copies are available on the Commission's website at the “RIMS” link or from the Commission's Public Reference and Files Maintenance Branch, 888 First Street, N.E., Washington, D.C. 20426, or call (202) 208-1371. For instructions on connecting to RIMS refer to the last page of this notice. Copies of the appendices were sent to all those receiving this notice in the mail.

Land Requirements for Construction

Construction of the proposed facilities would require about 146.9 acres of land including the construction right-of-way, extra work spaces, access roads, and pipeyards. Following construction, about 0.86 acre would be maintained as new aboveground facility sites. The remaining 146.04 acres of land would be restored and allowed to revert to its former use. About 57.8 acres of this total would be within the permanent pipeline right-of-way.

The EA Process

The National Environmental Policy Act (NEPA) requires the Commission to take into account the environmental impacts that could result from an action whenever it considers the issuance of a Certificate of Public Convenience and Necessity. NEPA also requires us ³ to discover and address concerns the public may have about proposals. We call this “scoping”. The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

³ ”We”, “us”, and “our” refer to the environmental staff of the Office of Energy Projects (OEP).

The EA will discuss impacts that could occur as a result of the construction and operation of the proposed project under these general headings:

• geology and soils

• water resources, fisheries, and wetlands

• vegetation and wildlife

• endangered and threatened species

• public safety

• land use

• cultural resources

• air quality and noise

• hazardous waste

We will also evaluate possible alternatives to the proposed project or portions of the project, and make recommendations on how to lessen or avoid impacts on the various resource areas. Alternatives routes that may be evaluated include moving segments of the project to the east side of the Norfolk & Western Railroad tracks.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

• To ensure your comments are considered, please carefully follow the instructions in the public participation section beginning on page 5.

Currently Identified Environmental Issues

We have already identified several issues that we think deserve attention based on a preliminary review of the proposed facilities and the environmental information provided by Texas Eastern. This preliminary list of issues may be changed based on your comments and our analysis.

• Six perennial and 8 intermittent waterbodies would be crossed by open cut.

• About 4.53 acres of wetlands, including about 2.47 acres of forested wetlands, would be crossed.

• About 7.23 acres of upland forest would be cleared.

• Three federally listed endangered or threatened species may occur in the proposed project area.

• About 117.7 acres of prime agricultural land would be affected, including a total of about 0.86 acre of prime farmland soils that would convert to industrial use.

• About 3.9 acres of residential property would be affected.

• A total of 16 residences are within 50 feet of the construction work area and 8 of these are within 10 feet.

• A total of 2 businesses are within 40 feet of the construction right-of-way and 1 business is within 10 feet.

Also, we have made a preliminary decision to not address the impacts of the nonjurisdictional facilities. We will briefly describe their location and status in the EA.

Public Participation

You can make a difference by providing us with your specific comments or concerns about the project. By becoming a commentor, your concerns will be addressed in the EA and considered by the Commission. You should focus on the potential environmental effects of the proposal, alternatives to the proposal (including alternative locations/routes), and measures to avoid or lessen environmental impact. The more specific your comments, the more useful they will be. Please carefully follow these instructions to ensure that your comments are received in time and properly recorded:

• Send an original and two copies of your letter to: Linwood A. Watson, Jr., Acting Secretary, Federal Energy Regulatory Commission, 888 First St., N.E., Room 1A, Washington, DC 20426

• Label one copy of the comments for the attention of Gas 2.

• Reference Docket No. CP02-045-000.

• Mail your comments so that they will be received in Washington, DC on or before (February 25, 2002).

Comments may also be filed electronically via the Internet in lieu of paper. See 18 CFR 385.2001(a)(1)(iii) and the instructions on the Commission's web site at http://www.ferc.gov under the “e-Filing” link and the link to the User's Guide. Before you can file comments you will need to create an account which can be created by clicking on “Login to File” and then “New User Account.”

We may mail the EA for comment. If you are interested in receiving it, please return the Information Request (appendix 3). If you do not return the Information Request, you will be taken off the mailing list.

Becoming an Intervenor

In addition to involvement in the EA scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2).⁴ Only intervenors have the right to seek rehearing of the Commission's decision.

⁴ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Additional information about the proposed project is available from the Commission's Office of External Affairs at (202) 208-1088 or on the FERC website (www.ferc.gov) using the “RIMS” link to information in this docket number. Click on the “RIMS” link, select “Docket#” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

C.B. Spencer,
Acting Secretary.

[FR Doc. 02-2288 Filed 1-30-02; 8:45 am]

BILLING CODE 6717-01-P